DEPARTMENT OF TRANSPORTATION

Pipeline and Hazardous Materials Safety Administration

49 CFR Parts 192 and 195

[Docket No. PHMSA-2025-0118]

RIN 2137-AF79

Pipeline Safety: Integration of Innovative Remote Sensing Technologies for Right-of-Way Patrols on Gas and Hazardous Liquid Pipelines

AGENCY: Pipeline and Hazardous Materials Safety Administration (PHMSA), Department of Transportation (DOT).

ACTION: Withdrawal of direct final rule (DFR).

SUMMARY: Due to the receipt of adverse comment, PHMSA is withdrawing the DFR titled “Integration of Innovative Remote Sensing Technologies for Right-of Way Patrols on Gas and Hazardous Liquid Pipelines,” which published on July 1, 2025.

DATES: Effective October 2, 2025, PHMSA withdraws the DFR published at 90 FR 28105 on July 1, 2025.

FOR FURTHER INFORMATION CONTACT: Sayler Palabrica, Transportation Specialist, 1200 New Jersey Avenue SE, Washington, DC 20590, by phone at 202-744-0825 or by email at sayler.palabrica@dot.gov.

SUPPLEMENTARY INFORMATION: Due to the receipt of adverse comment, PHMSA is withdrawing the DFR titled “Integration of Innovative Remote Sensing Technologies for Right-of-Way Patrols on Gas and Hazardous Liquid Pipelines,” which published on July 1, 2025 (90 FR 28105). PHMSA stated in that DFR that if PHMSA received adverse comment by September 2, 2025, the DFR would not take effect and PHMSA would publish a timely withdrawal in the Federal Register. Because PHMSA subsequently received adverse comment on that DFR, PHMSA is withdrawing the DFR. In accordance with PHMSA's procedures at 49 CFR 190.339 for direct final rulemaking, the Administrator may incorporate the adverse comment into a subsequent DFR or may publish a notice of proposed rulemaking (NPRM). An NPRM would provide an opportunity for public comment and will be processed in accordance with 49 CFR 190.311 through 190.329.

List of Subjects

49 CFR Part 192

Natural gas, Pipeline safety.

49 CFR Part 195

Pipeline safety.

Accordingly, as of October 2, 2025, PHMSA withdraws the direct final rule amending 49 CFR parts 192 and 195, which published at 90 FR 28105 on July 1, 2025.

Issued in Washington, DC, on September 30, 2025, under the authority designated in 49 CFR 1.97.
Benjamin D. Kochman,
Deputy Administrator.

[FR Doc. 2025-19322 Filed 10-1-25; 8:45 am]

BILLING CODE 4910-60-P